DEPARTMENT OF HEALTH AND HUMAN SERVICES

National Institutes of Health

National Institute of Dental & Craniofacial Research; Amended Notice of Meeting

Notice is hereby given of a change in the meeting of the National Advisory Dental and Craniofacial Research Council, May 18, 2009, 8:30 a.m. to May 18, 2009, 4:30 p.m., National Institutes of Health, Building 31, 31 Center Drive, Conference Room 10, Bethesda, MD, 20892 which was published in the Federal Register on January 12, 2009, 74 FR 1222.

The meeting of the advisory council has been changed from May 18, 2009, to May 22, 2009. The meeting is partially closed to the public.

Dated: March 20, 2009.
Jennifer Spaeth,
Director, Office of Federal Advisory Committee Policy.

[FR Doc. E9-6783 Filed 3-30-09; 8:45 am]

BILLING CODE 4140-01-M